DEPARTMENT OF HOMELAND SECURITY

Coast Guard

33 CFR Part 117

[Docket No. USCG-2012-0126]

Drawbridge Operation Regulation; Berwick Bay (Atchafalaya River), Morgan City, LA

AGENCY: Coast Guard, DHS.

ACTION: Notice of temporary deviation from regulations.

SUMMARY: The Commander, Eighth Coast Guard District, has issued a temporary deviation from the regulation governing the operation of the Burlington Northern Santa Fe (BNSF) Railway Company vertical lift span bridge across Berwick Bay, mile 0.4, (Atchafalaya River, mile 17.5) at Morgan City, St. Mary Parish, Louisiana. The deviation is necessary to perform scheduled maintenance to the bridge. This deviation allows the bridge to remain in the closed-to-navigation position on two dates occurring in March of 2012.

DATES: This deviation is effective from 7:30 a.m. on Thursday, March 15, 2012 through 11:30 a.m. Thursday, March 22, 2012.

ADDRESSES: Documents mentioned in this preamble as being available in the docket are part of docket USCG-2012-0126 and are available online by going to http://www.regulations.gov, inserting USCG-2012-0126 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Kay Wade, Bridge Branch Office, Coast Guard; telephone 504-671-2128, email Kay.B.Wade@uscg.mil. If you have questions on viewing the docket, call Renee V. Wright, Program Manager, Docket Operations, telephone 202-366-9826.

SUPPLEMENTARY INFORMATION: The BNSF Railway Company has requested a temporary deviation from the operating schedule of the vertical lift span railroad bridge across Berwick Bay, mile 0.4 (Atchafalaya River, mile 17.5), at Morgan City, St. Mary Parish, Louisiana. The vertical lift span bridge has a vertical clearance of 6.4 feet above high water, elevation 8.2 feet Mean Sea Level in the closed-to-navigation position. Vessels able to pass underneath the bridge in the closed-to-navigation-position may do so.

In accordance with 33 CFR 117.5, the bridge currently opens on signal for the passage of vessels. This deviation allows the vertical lift span of the bridge to remain in the closed-to-navigation position from 7:30 a.m. through 11:30 a.m. on Thursday, March 15, 2012 and Thursday, March 22, 2012.

To avoid becoming a safety hazard, the closures are necessary in order to cut and weld worn rails and chipping Conley joints. This maintenance is essential for the continued safety and operation of the bridge. Notices will be published in the Eighth Coast Guard District Local Notice to Mariners and will be broadcast via the Coast Guard Broadcast Notice to Mariners System.

Navigation on the waterway consists of tugs with tows, fishing vessels and recreational craft, including sailboats and powerboats. The bridge will be able to open for emergencies, if necessary. The Intracoastal Waterway—Morgan City to Port Allen Route and the Landside Route, including Bayou Boeuf, are alternate waterway routes for vessels not requiring greater than a 12 foot draft. Based on experience and coordination with waterway users, it has been determined that these closures will not have a significant effect on vessels that use the waterway.

In accordance with 33 CFR 117.35(e), the drawbridge must return to its regular operating schedule immediately at the end of the designated time period. This deviation from the operating regulations is authorized under 33 CFR 117.35.

Dated: February 23, 2012.
David M. Frank,
Bridge Administrator, Eighth Coast Guard District.

[FR Doc. 2012-5971 Filed 3-12-12; 8:45 am]

BILLING CODE 9110-04-P